OFFICE OF THE TRADE REPRESENTATIVE

Request for Comments on Possible Negotiations in the World Trade Organization To Expand the Information Technology Agreement, Including Its Product Coverage

AGENCY: Office of the United States Trade Representative.

ACTION: Notice and request for comments.

SUMMARY: The interagency Trade Policy Staff Committee (TPSC) is requesting comments from the public on whether the United States should undertake negotiations to expand the Information Technology Agreement (ITA) and, if so: (1) Which additional information and communications technology (ICT) products the United States should seek to include and provide duty-free treatment under the ITA, including both products that existed when the ITA was concluded in 1996 but that were not covered under the agreement as well as products that have been developed since then; and (2) which U.S. trading partners that are significant producers or consumers of ICT products that are not currently participants in the ITA the United States should seek to have join the ITA. The TPSC will consider public comments in formulating U.S. positions and objectives regarding possible negotiations to expand the ITA.

DATES: Public comments are due by noon, June 13, 2011.

FOR FURTHER INFORMATION CONTACT: Scott Pietan (Director for Industrial Trade Policy) or Mary Thornton (Director for Tariff Affairs), Office of Small Business, Market Access, and Industrial Competitiveness, Office of the United States Trade Representative (USTR), 600 17th St., NW., Washington, DC 20508, telephone (202) 395-5656, Fax (202) 395-9674.

SUPPLEMENTARY INFORMATION: Any amendments to the ITA resulting from negotiations to expand the agreement will be subject to approval by its current participants.

Background Information

In December 1996, United States and 36 other countries and separate customs territories reached agreement to eliminate tariffs on a wide range of ICT products. The resulting agreement, the Ministerial Declaration on Trade in Information Technology Products (also termed the Information Technology Agreement, or ITA) was implemented under the auspices of the World Trade Organization (WTO). The number of ITA participants has since grown to 73, reflecting a significant increase in participation by developing countries, and currently representing approximately 97 percent of world trade in ITA products. However, many countries still remain outside of the agreement. Current participants include: Albania; Australia; Bahrain; Canada; China; Chinese Taipei; Costa Rica; Croatia; Dominican Republic; Egypt; El Salvador; European Union (on behalf of its 27 Member States); Georgia; Guatemala; Honduras; Hong Kong; Iceland; India; Indonesia; Israel; Japan; Jordan; Korea; Kuwait; Kyrgyz Republic; Macao; Malaysia; Mauritius; Moldova; Morocco; New Zealand; Nicaragua; Norway; Oman; Panama; Peru; Philippines; Saudi Arabia; Singapore; Switzerland and Liechtenstein; Thailand; Turkey; Ukraine; United Arab Emirates; United States; and Vietnam. Any WTO Member or any State or separate customs territory in the process of acceding to the WTO may become a participant in the ITA.

The ITA requires participants to eliminate import duties on covered products. The elimination of duties under the agreement has helped to generate substantial growth in ICT trade. Industry sources estimate that global trade in products currently covered under the ITA grew from $1.2 trillion in 1996 to $4.0 trillion in 2008.

The ITA currently covers computers and computer equipment, semiconductors and integrated circuits, computer software products, telecommunications equipment, semiconductor manufacturing equipment, and computer-based analytical instruments. The list of covered products has not been expanded since the ITA was concluded in 1996. Detailed information on the ITA, including the text of the agreement and its annexes specifying the products the agreement covers, can be found online at: http://www.wto.org/english/tratop_e/inftec_e/inftec_e.htm.

Comments From the Public

The TPSC, led by USTR, is considering a proposal by industry stakeholders to expand the scope of the ITA significantly to provide duty-free treatment for a broader range of products and encourage wider participation in the agreement. Interested persons are invited to submit comments, by noon, June 13, 2011, on the desirability of engaging in negotiations to expand the ITA. Comments are invited in particular on: (1) Additional ICT products that the United States should seek to include under the ITA, and (2) U.S. trading partners that are significant producers or consumers of ICT products that are not currently participants in the ITA and that the United States should to seek to have join the ITA. Comments on proposed additional ICT products may address products that existed when the ITA was concluded in 1996 but that were not covered under the agreement as well as products that have been developed since that time. Those comments should include a detailed description of the specific product(s) and, whenever appropriate, the six-digit (or 8-digit, where applicable) Harmonized System tariff classification number for the product(s) concerned. The TPSC requests this advice pursuant to 19 U.S.C. 2155.

Requirements for Submissions

All comments must be submitted in English and must identify (on the first page of the submission) the subject matter of the comment as the “Possible Expansion of the Information Technology Agreement.” In order to be assured of consideration, comments should be submitted by noon, June 13, 2011.

In order to ensure the timely receipt and consideration of comments, USTR strongly encourages commenters to make on-line submissions, using the http://www.regulations.gov Web site. Comments should be submitted under the following docket: USTR-2011-0003. To find the docket, enter the docket number in the “Enter Keyword or ID” window at the http://www.regulations.gov home page and click “Search.” The site will provide a search-results page listing all documents associated with this docket. Find a reference to this notice by selecting “Notices” under “Document Type” on the search-results page, and click on the link entitled “Submit a Comment.” (For further information on using the http://www.regulations.gov Web site, please consult the resources provided on the Web site by clicking on the “Help” tab.)

The http://www.regulations.gov Web site provides the option of making submissions by filling in a comments field, or by attaching a document. USTR prefers submissions to be provided in an attached document. If a document is attached, it is sufficient to type “See attached” in the “Type comment & Upload File” field. USTR prefers submissions in Microsoft Word (.doc) or Adobe Acrobat (.pdf). If the submission is in an application other than those two, please indicate the name of the application in the “Comments” field.

For any comments submitted electronically containing business confidential information, the file name of the business confidential version should begin with the characters “BC.” The top of any page containing business confidential information must be clearly marked “BUSINESS CONFIDENTIAL.” Any person filing comments that contain business confidential information must also file in a separate submission a public version of the comments. The file name of the public version should begin with the character “P.” The “BC” and “P” should be followed by the name of the person or entity submitting the comments. If a comment contains no business confidential information, the file name should begin with the character “P,” followed by the name of the person or entity submitting the comment.

Please do not attach separate cover letters to electronic submissions; rather, include any information that might appear in a cover letter in the comments themselves. Similarly, to the extent possible please include any exhibits, annexes, or other attachments in the same file as the submission itself, not as separate files.

Public Inspection of Submissions

Comments will be placed in the docket and open to public inspection pursuant to 15 CFR 2006.13, except confidential business information exempt from public inspection in accordance with 15 CFR 2006.15. Comments may be viewed on the http://www.regulations.gov Web site by entering docket number USTR-2011-0003 in the search field on the home page.

USTR strongly urges submitters to file comments through regulations.gov, if at all possible. Any alternative arrangements must be made with Anita Kyler in advance of transmitting a comment. Ms. Kyler should be contacted at (202) 395-9665. General information concerning USTR is available at http://www.ustr.gov.

Donald W. Eiss,
Acting Chair, Trade Policy Staff Committee.

[FR Doc. 2011-11049 Filed 5-5-11; 8:45 am]

BILLING CODE 3190-W1-P